DEPARTMENT OF THE INTERIOR

Fish and Wildlife Service

Endangered and Threatened Wildlife and Plants; Extension of Comment Period for the Bull Trout (Salvelinus Confluentus) 5-Year Review

AGENCY: Fish and Wildlife Service, Interior.

ACTION: Extension of comment period for the bull trout 5-year review.

SUMMARY: The U.S. Fish and Wildlife Service (“we”) announces an extension of the comment period for the bull trout 5-year review under section 4(c)(2)(A) of the Endangered Species Act (16 U.S.C. 1531 et seq.) (Act). The initial request for information was to end on July 1, 2004. We are extending the request for information to January 3, 2005. We are announcing this extension to allow the public additional time to provide information for this review. We are again requesting submission of any new information (best scientific and commercial data) on the bull trout that has become available since its original listing as a threatened species coterminously in the lower 48 States in 1999 (64 FR 58932). If the present classification of the bull trout is not consistent with the best scientific and commercial information available, we may, at the conclusion of this review, initiate a separate action to propose changes to the List of Endangered and Threatened Wildlife and Plants (List) accordingly.

DATES: To allow us adequate time to conduct the review, we must receive your information no later than January 3, 2005. We want to emphasize that the timely submission of information is critical to ensure its use in the 5-year review.

ADDRESSES: Submit information to the U.S. Fish and Wildlife Service, Bull Trout Coordinator, Attention: Bull Trout 5-year Review, 911 NE 11th Avenue, Portland, Oregon 97232. Information received in response to this notice and the results of the review will be available for public inspection by appointment, during normal business hours, at the above address. New information regarding the bull trout may also be sent electronically to R1BullTrout5Y@r1.fws.gov.

FOR FURTHER INFORMATION CONTACT: Rollie White at the above address, or at (503) 231-6158.

SUPPLEMENTARY INFORMATION: On April 13, 2004, we announced in a Federal Register notice (69 FR 19449) that we are commencing a 5-year review of the bull trout. Section 4(c)(2)(A) of the Act requires that we conduct a review of listed species at least once every 5 years. The purpose of a 5-year review is to ensure that the classification of a species as threatened or endangered on the List is accurate. The 5-year review is an assessment of the best scientific and commercial data available at the time of the review that has become available since the species' original listing or its most recent status or 5-year review.

If there is no new information concerning the bull trout, no changes will be made to its classification. However, if we find that there is new information concerning the bull trout indicating a change in classification is warranted, we may propose a new rule that could either: (a) Reclassify the species from threatened to endangered; or (b) remove the species from the List.

Public Solicitation of New Information

We are publishing this extension of the comment period to allow for any new information relating to the current status of the bull trout that has become available since its original listing. In particular, we are seeking information such as:

A. Species biology including, but not limited to, population trends, distribution, abundance, demographics, and genetics;

B. Habitat conditions including, but not limited to, amount, distribution, and suitability;

C. Conservation measures that have been implemented that benefit the species;

D. Threat status and trends; and

E. Other new information, data, or corrections including, but not limited to, taxonomic or nomenclatural changes, identification of erroneous information contained in the List, and improved analytical methods.

Information submitted should be supported by documentation such as maps, bibliographic references, methods used to gather and analyze the data, and/or copies of any pertinent publications, reports, or letters by knowledgeable sources.

Authority

This document is published under the authority of the Endangered Species Act (16 U.S.C. 1531 et seq.).

Dated: June 17, 2004.
David J. Wesley,
Regional Director, Region 1, U.S. Fish and Wildlife Service.

[FR Doc. 04-14941 Filed 6-30-04; 8:45 am]

BILLING CODE 4310-55-P